DEPARTMENT OF VETERANS AFFAIRS

Professional Certification and Licensure Advisory Committee; Notice of Meeting

The Department of Veterans Affairs (VA) gives notice under Pub. L. 92-463 (Federal Advisory Committee Act) that the Professional Certification and Licensure Advisory Committee will meet at the Department of Veterans Affairs, Veterans Benefits Administration Education Conference Room 601V, 1800 G St., NW., Washington, DC, on Wednesday, September 4, 2002, from 8:30 a.m. to 4 p.m., and from 8 a.m. to 12 p.m. on Thursday, September 5, 2002. The purpose of the Committee is to review the requirements of organizations or entities offering licensing and certification tests to individuals for which payment for such tests may be made under chapters 30, 32, 34, or 35 of Title 38, United States Code.

On September 4, the meeting will begin with opening remarks and an overview by Ms. Sandra Winborne, Committee Chair. During the morning session, the Committee will receive presentations on the National Association of State Approving Agencies Conference and the Professional Certification Advisory Board Meeting. The afternoon session will include discussion of the VA responses to previous Committee recommendations. On September 5, the Committee will discuss what the Committee's direction should be for the coming year.

Those planning to attend the open meeting should contact Mr. Giles Larrabee or Mr. Michael Yunker at (202) 273-7187. Interested persons may attend, appear before, or file statements with the Committee. Statements, if in written form, may be filed before the meeting, or within 10 days after the meeting. Oral statements will be heard at 9 a.m. Thursday, September 5, 2002.

Dated: August 7, 2002.
By Direction of the Secretary.
Nora E. Egan,
Committee Management Officer.

[FR Doc. 02-20570 Filed 8-13-02; 8:45 am]

BILLING CODE 8320-01-M